DEPARTMENT OF COMMERCE

INTERNATIONAL TRADE ADMINISTRATION

[A-508-809; C-508-810; A-821-813]

Notice of Postponement of Final Antidumping Determination and Extension of Provisional Measures and Postponement of Final Countervailing Duty Determination: Pure Magnesium From Israel; and Notice of Postponement of Final Antidumping Determination: Pure Magnesium From the Russian Federation

AGENCY: Import Administration, International Trade Administration, Department of Commerce.

EFFECTIVE DATE: May 14, 2001.

FOR FURTHER INFORMATION CONTACT: Craig Matney (Israel) or James Nunno (Russian Federation), Import Administration, International Trade Administration, U.S. Department of Commerce, 14th Street and Constitution Avenue, NW., Washington, DC 20230; telephone: (202) 482-1778 and (202) 482-0783, respectively.

The Applicable Statute

Unless otherwise indicated, all citations to the Tariff Act of 1930 (“the Act”), as amended, are references to the provisions effective January 1, 1995, the effective date of the amendments made to the Act by the Uruguay Round Agreements Act (“URAA”). In addition, all citations to the Department's regulations are to 19 CFR Part 351 (April 2000).

Postponement of Final Determinations and Extension of Provisional Measures

On April 23, 2001, the Department issued its affirmative preliminary determination in the antidumping duty investigation of pure magnesium from Israel (see Notice of Preliminary Determination of Sales at Less Than Fair Value: Pure Magnesium from Israel, 66 FR 21325 (April 30, 2001) and its negative preliminary determination in the antidumping duty investigation of pure magnesium from the Russian Federation (“Russia”) (see Notice of Preliminary Determination of Sales at Not Less Than Fair Value: Pure Magnesium from the Russian Federation, 66 FR 21319 (April 30, 2001). These notices stated we would issue our final determinations in these investigations not later than 75 days after the date of the preliminary determinations.

On April 25, 2001, in accordance with section 735(a)(2)(B) of the Act and section 351.210(b)(2)(i) of the Department's regulations, the petitioners in this investigation (i.e., Magnesium Corporation of America, the United Steelworkers of America, Locals 482 and 8319, and Concerned Employees of Northwest Alloys, Inc.), requested a 60-day postponement of the final determination in the investigation of pure magnesium from Russia. Because the preliminary determination for Russia was negative, the petitioners' request serves as an adequate basis upon which the Department may extend the final determination.

In addition, on May 1, 2001, in accordance with 16 CFR 351.210(b)(2)(ii), Dead Sea Magnesium Ltd. (DSM), the respondent in the Israel investigation, requested that the Department grant a 60-day postponement of the final determination in that case. DSM also requested that the Department extend provisional measures to a period not to exceed six months, in accordance with section 733(d) of the Act and section 351.210(e)(2) of the Department's regulations. Because the preliminary determination for Israel was affirmative, DSM's request serves as an adequate basis upon which the Department may extend the final determination.

As no compelling reasons exist for denying the requests for postponement in either case, we are extending these final determinations to not later than 135 days after the date of publication of the preliminary determinations (i.e., until September 12, 2001). Suspension of liquidation for Israel will be extended accordingly.

Further, because the final determination in the countervailing duty investigation of pure magnesium from Israel has been aligned with the final determinations in the antidumping duty investigations of pure magnesium from Israel, Russia, and the People's Republic of China (see Notice of Postponement of Preliminary Determinations of Sales at Less Than Fair Value: Pure Magnesium From Israel, the Russian Federation, and the People's Republic of China and Alignment of Final Countervailing Duty Determination With Final Antidumping Duty Determinations: Pure Magnesium from Israel, 66 FR 14546 (March 13, 2001), we are postponing the final determination in the countervailing duty investigation until September 12, 2001, accordingly.

This notice of postponement is published pursuant to section 735(a) of the Act and 19 CFR 351.210(g).

Dated: May 7, 2001.
Richard W. Moreland,
Deputy Assistant Secretary for Import Administration.

[FR Doc. 01-12062 Filed 5-11-01; 8:45 am]

BILLING CODE 3510-DS-P